ENVIRONMENTAL PROTECTION AGENCY

[ER-FRL-8592-9]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146. An explanation of the ratings assigned to draft environmental impact statements (EISs) was published in FR dated April 17, 2009 (74 FR 17860).

Draft EISs

EIS No. 20080418, ERP No. D-DOE-A06083-00, Programmatic—Global Nuclear Energy Partnership (GNEP) Program, To Support a Safe, Secure, and Sustainable Expansion of Nuclear Energy, both Domestically and Internationally, (DOE/EIS-0396).

Summary: EPA expressed environmental concerns about the potential for adverse impacts due to low-level waste disposal issues. Rating EC2.

EIS No. 20080542, ERP No. D-AFS-K65353-NV, Martin Basin Rangeland Project, Reauthorizing Grazing on Eight Existing Cattle and Horse Allotments: Bradshaw, Buffalo, Buttermilk, Granite Peak, Indian, Martin Basin, Rebel Creek, and West Side Flat Creek, Santa Rosa Ranger District, Humboldt Toiyabe National Forest, NV.

Summary: EPA expressed environmental concerns about water quality effects and impacts on downstream users and requested additional information on Allotment Management Plans, private land purchases, and permitting numbers. Rating EC2.

EIS No. 20090023, ERP No. D-AFS-K65355-CA, Sequoia National Forest Motorized Travel Management Project, Prohibit Cross-Country Travel for Managing Motorized Travel, Kern River, Western Divide Ranger Districts, Sequoia National Forest, Tulare County, CA.

Summary: EPA expressed environmental concerns about impacts to watersheds that have significant soil and water resource impairment and to the Condor Roost Area. EPA requested additional information on seasonal closures, mitigation for impacts on fens, and monitoring and enforcement commitments. Rating EC2.

EIS No. 20090051, ERP No. D-IBR-K39117-CA, Los Vaqueros Reservoir Expansion Project, To Develop Water Supplies Environmental Water Management that Supports Fish Protection, Habitat Management, and other Environmental Water Needs in the Delta and Tributary River Systems, San Francisco Bay Area, Contra Costa County, CA.

Summary: EPA expressed environmental concerns about impacts to vernal pools, and climate change effects. Rating EC2.

Final EISs

EIS No. 20090077, ERP No. F-FRC-K05066-CA, Big Creek Hydro Project (FERC Nos. 67, 120, 2085, and 2175) Proposes to Relicenses, Big Creek Nos. 2 A,8 and Eastwood—FERC No. 67; Big Creek Nos. 1 and 2—FERC No. 2175; Mammoth Pool—FERC No. 2085 and Big Creek No. 3 FERC No. 120, Fresno and Madera Counties, CA.

Summary: EPA continues to have environmental concerns about the lack of a discussion of climate change effects on the project.

Dated: April 28, 2009.
Ken Mittelholtz,
Environmental Protection Specialist, Office of Federal Activities.

[FR Doc. E9-10077 Filed 4-30-09; 8:45 am]

BILLING CODE 6560-50-P